FEDERAL MARITIME COMMISSION

Notice of Agreements Filed

The Commission hereby gives notice of the filing of the following agreements under the Shipping Act of 1984. Interested parties may submit comments on the agreements to the Secretary, Federal Maritime Commission, Washington, DC 20573, within ten days of the date this notice appears in the Federal Register. Copies of the agreements are available through the Commission's Web site (www.fmc.gov) or by contacting the Office of Agreements at (202)-523-5793 or tradeanalysis@fmc.gov.

Agreement No.: 012164-001.

Title: KL/WHS Space Charter and Sailing Agreement.

Parties: Kawasaki Kisen Kaisha, Ltd. and Wan Hai Lines (Singapore) PTE Ltd.

Filing Party: Jason P. Gonzalez, Nixon Peabody LLP, Gas Company Tower, 555 West Fifth Street, 46th Floor, Los Angeles, CA 90013.

Synopsis: The amendment permits a larger capacity vessel to be used under the agreement.

Agreement No.: 012192.

Title: HMM/CMA CGM Slot Exchange Agreement.

Parties: Hyundai Merchant Marine Co., Ltd. and CMA CGM, S.A.

Filing Party: David F. Smith, Esq.; Cozen O'Connor; 1627 I Street NW., Suite 1100; Washington, DC 20006-4007.

Synopsis: The agreement authorizes Hyundai and CMA to exchange slots on their respective services for the purpose of repositioning empty containers.

By Order of the Federal Maritime Commission.
Dated: December 14, 2012.
Karen V. Gregory,
Secretary.

[FR Doc. 2012-30579 Filed 12-18-12; 8:45 am]

BILLING CODE 6730-01-P